DEPARTMENT OF COMMERCE

Census Bureau

Agency Information Collection Activities; Submission to the Office of Management and Budget (OMB) for Review and Approval; Comment Request; 2020 Census Count Question Resolution Operation

AGENCY: U.S. Census Bureau, Commerce.

ACTION: Notice of Information Collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement with change of the 2020 Census Count Question Resolution Operation, prior to the submission of the information collection request (ICR) to OMB for approval.

DATES: To ensure consideration, comments regarding this proposed information collection must be received on or before October 5, 2020.

ADDRESSES: Interested persons are invited to submit written comments by email to robin.a.pennington@census.gov. Please reference “2020 Census Count Question Resolution Operation” in the subject line of your comments. You may also submit comments, identified by Docket Number USBC-2020-0005, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Robin A. Pennington, Decennial Census Management Division, Program Management Office, by phone 301-763-8132 or by email robin.a.pennington@census.gov.

SUPPLEMENTARY INFORMATION:

I. Abstract

The 2020 Census Count Question Resolution operation (CQR) provides a mechanism for tribal, state, and local government units to request a review of their official 2020 Census results. The 2020 Census CQR is the only decennial operation by which corrections to the 2020 Census data can be made. Specifically, tribal chairpersons and the highest elected officials (or their representative) from state and local government units in the United States and Puerto Rico can submit a CQR case to request review of the official 2020 Census count of housing and associated population, and to correct boundary and count issues. Through this formal process, the Census Bureau reviews cases received to determine whether the 2020 Census count of housing (e.g., housing units and/or group quarters) ¹ and associated population has been impacted by any geographic or processing errors.

¹ A group quarters is a place where people live or stay, in a group living arrangement, owned, or managed by an entity or organization providing housing and/or services for the residents.

This is not a typical household-type living arrangement. These services may include custodial or medical care as well as other types of assistance, and residency is commonly restricted to those receiving these services. People living in group quarters are usually not related to each other.

Group quarters include such places as college residence halls, residential treatment centers, skilled nursing facilities, group homes, military barracks, correctional facilities, and workers' dormitories.

The 2020 Census CQR addresses two types of cases: Boundary and count. Boundary cases involve a review of legal government unit boundaries in effect as of January 1, 2020, and the associated addresses affected by the boundaries. Count cases involve a review of the geographic location or placement of housing and associated population (geocoding issue), as well as a review of the enumeration universe for census processing errors (coverage issue). Corrections made to the housing counts and associated population by this operation will result in the issuance of new, official 2020 Census counts to the tribal chairperson or highest elected official of affected government units. The Census Bureau will use these corrections to modify the decennial census file for use in the annual postcensal estimates, released for the years after a decennial census, and to create the errata information that will be made available on the web on a flow basis as case research is completed.

The CQR does not revise the population counts sent to the President by April 30, 2021, which determine apportionment of the U.S. House of Representatives or to revise population counts relating to differential privacy, which is the new mathematical approach developed to protect the identify of individual respondents in the 2020 Census population counts. Visit the Disclosure Avoidance and the 2020 Census website for more information on the implementation of differential privacy to protect 2020 Census data.²

² <https://www.census.gov/about/policies/privacy/statistical_safeguards/disclosure-avoidance-2020-census.html>.

The Census Bureau will accept CQR cases between October 1, 2021 and June 30, 2023. The Census Bureau will only accept cases that originate from the tribal chairperson or highest elected official of tribal, state, and local government units. After a government unit initiates a case in writing through mail or email, the tribal chairperson or highest elected official may designate officials representing them to work with the Census Bureau on their respective CQR case(s).

The Census Bureau process for CQR includes researching the issues brought forth by cases and, as appropriate, making corrections and issuing revised official counts of population and housing, which the Census Bureau uses for its Population Estimates Program. The Census Bureau will not accept cases to review the overseas counts of persons in the military and Federal civilian personnel stationed overseas and their dependents living with them. The Census Bureau obtains overseas counts using administrative records.

The Census Bureau will make corrections based on appropriate documentation provided by the questioning government unit and through research of the official 2020 Census records. The Census Bureau will not collect additional data for the enumeration of housing through CQR and will not incorporate CQR corrections into the 2020 Census data summary files and tables or re-tabulate any of the other 2020 Census data products.

The Census Bureau describes the resulting corrective action from the two CQR case types as follows:

• Boundary cases may correct the inaccurate recording of boundaries, legally in effect on January 1, 2020, and update the housing counts for the blocks affected by the boundary correction if the government unit supplies the required individual address records for the affected block(s). Boundary changes effective after January 1, 2020, boundary corrections submitted without individual address records, and boundary corrections that do not affect counts are out of scope for CQR.

• Count cases with geocoding issues may correct inaccurate geographic locations or placement of housing and associated population within the correct government unit boundaries and 2020 census tabulation blocks.

• Count cases with coverage issues may result in the addition of specific housing and associated population identified during the census process, but erroneously included as duplicates or excluded from enumeration. Coverage corrections are limited to census processing errors, i.e., erroneous exclusions of housing identified as existing in census records as of April 1, 2020.

For count cases, updated counts for the number of housing units and/or group quarters is the only requirement for a government unit to supply with their submission. This differs from the 2010 CQR requirement that requested a list of addresses and updated counts for the blocks included in the case. During 2020 CQR, a government unit does not provide updated population counts for the housing units and/or group quarters within the 2020 census tabulation blocks in question.

The Census Bureau will research accepted cases to determine whether it can identify information about the existence of housing on April 1, 2020 that does not appear in the final census files because of an error (e.g., boundary, geocoding, or coverage) resulting in an incorrect population or housing count. When CQR research shows that errors occurred, the Census Bureau will provide corrected official counts of population and housing to all affected government units in determination letters that will be distributed on a flow basis as research is completed. The Census Bureau will also distribute errata showing these corrections based on CQR cases on the CQR website, but will not incorporate CQR corrections into the 2020 Census data summary files and tables or re-tabulate any of the other 2020 Census data products.

II. Method of Collection

The Census Bureau requires documentation before committing resources to review and research CQR cases. The submitted case must specify whether it disputes the location of a government unit boundary, the count of housing units and/or group quarters in one or more 2020 census tabulation blocks, or both.

The CQR case documentation can be prepared and submitted in paper format by mail or prepared electronically and submitted using the Census Bureau's Secure Web Incoming Module (SWIM). Use of SWIM is new for 2020 CQR. No web interface for sharing digital files existed for use during 2010 CQR. Information about specific case criteria, block count lists, acceptable map types, and acceptable address types, is included below.

Boundary Case Criteria

Tribal, state, and local government units must base boundary cases on the legal boundaries in effect on January 1, 2020. The Census Bureau will compare the maps and appropriate documentation submitted by the government unit with the information used by the Census Bureau to depict the boundaries for the 2020 Census.

Government units initiating a boundary case must submit a map (or maps) indicating the portion of the boundary that the Census Bureau potentially depicted incorrectly, including the 2020 census tabulation block numbers associated with the boundary, as well as depicting the correct location of the boundary. See the Acceptable Map Types section below for additional details.

The government unit must provide a list of residential addresses in the 2020 census tabulation blocks affected by the incorrect boundary, indicating their coordinates or location in relationship to the boundary. The list of addresses must follow the templates provided on the CQR website or within the Geographic Update Partnership Software (GUPS).³ The government unit must certify that the submitted addresses existed and were available for occupancy on April 1, 2020. They must provide information regarding the validity of the address source(s) by discussing its creation, usual use, and maintenance cycle. See the Acceptable Address Types section below for additional details.

³ GUPS replaces the MAF/TIGER Partnership Software (MTPS) used for 2010 CQR.

Boundary cases affected by legal actions not recorded by the Census Bureau, such as annexation, de-annexation, incorporation, disincorporation, must include legal documentation stating the effective date of January 1, 2020, or before, and ordinance or resolution number or law approving the boundary change. Additionally, the government unit must provide evidence that the state certifying official has approved the boundary change if required by state law, and provide a statement that the boundary change is not under litigation.

Count Case Criteria (Geocoding/Coverage)

Government units filing cases to dispute the housing counts of 2020 census tabulation blocks, whether caused by geocoding or coverage issues, must submit a block count list that includes the contested 2020 census tabulation block(s) within their government unit and the correct count of housing units and group quarters as of April 1, 2020. CQR participants may use the housing unit and the group quarters counts by 2020 census tabulation block contained in the Public Law 94-171 Redistricting Data Files or the Demographic and Housing Characteristics File, a variation of the former Summary File 1, to determine the official counts from the 2020 Census. Government units may use the files in conjunction with the 2020 TIGER/Line shapefiles, 2020 Census Block Maps, or Public Law 94-171 County Block Maps. This material will be released to the public through the Census Bureau website no later than July 31, 2021. Access to the housing unit and the group quarters counts by 2020 census tabulation block will be available to CQR participants through download from the CQR website. Collectively, the census data products will provide CQR participants with the appropriate tools for assessing the accuracy of their decennial census counts and determining whether initiating a case is necessary.

A government unit may provide a map depicting the location of the housing units and group quarters to assist the Census Bureau with their research. Participants should only provide a list of residential addresses for count cases in any subsequent submissions or re-submissions to help the Census Bureau conduct additional research after the Census Bureau completed an initial determination. The list of addresses must follow the templates provided on the CQR website or within GUPS. If providing an address list, the government unit must certify that the submitted addresses existed and were available for occupancy on April 1, 2020. They must provide information regarding the validity of the address source(s) by discussing its creation, usual use, and maintenance cycle.

Acceptable Map Types

2020 Census Public Law 94-171 County Block Maps—Large format, county based maps produced by the Census Bureau as a reference for the Redistricting Data Files available for all States, the District of Columbia, and Puerto Rico. Used to determine if filing a case is necessary and to support a boundary case.

2020 Census Block Maps—Large format, government unit based maps produced by the Census Bureau to support the Decennial Census data release. Used to reference the Demographic and Housing Characteristics File, a variation of the former Summary File 1, to determine if filing a case is necessary and to support a boundary case.

2020 TIGER/Line shapefiles—Available as spatial files and for use in GUPS or other geographic information system (GIS) software used to determine if filing a case is necessary and if so, to generate maps or files for submission with a boundary case.

2020 Census Block Work Maps—Small format, tabulation block based maps produced by the Census Bureau, upon request of a government unit. Used to annotate address map spots to support a boundary case where the scale of the large format products is inadequate. Other materials suffice to determine whether filing a case is necessary.

Other paper maps showing the 2020 census tabulation block numbers and boundaries—Used to support a boundary case. These maps must use the 2020 TIGER/Line shapefiles as their source and show legal boundaries of the government unit as of January 1, 2020, census tracts, census tabulation blocks, and any other legal entity involved in a case. In general, these maps compare to the 2020 Census Block Maps.

Acceptable Address Types

City Style Addresses—City style addresses must include house number, apartment number (if applicable), street name, ZIP code, and state, county, 2020 census tract, and 2020 census tabulation block code information. The Census Bureau requires government units to use the template within GUPS or on the CQR website to generate an acceptable list of city style addresses.

Non-City Style Addresses—Non-city style addresses include rural route addresses, physical location descriptions, and any other addresses that do not contain components of a city style address. The Census Bureau requires government units use the template within GUPS or on the CQR website to generate an acceptable list of non-city style addresses.

Group Quarters Addresses—Group quarters addresses must include the group quarters name and telephone number or email address, and may include city style or non-city style addresses. Government units must use the template within GUPS or on the CQR website to generate an acceptable list of group quarters addresses.

III. Data

OMB Control Number: 0607-0879.

Form Number(s): None.

Type of Review: Regular submission, Request for a Reinstatement, with Change, of a Previously Approved Collection.

Affected Public: Tribal, State, or local government units in the United States and Puerto Rico.

Estimated Number of Respondents: 1,500.

Estimated Time per Response: 5.2 hours (based on 40 records per case).

Estimated Total Annual Burden Hours: 7,800.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 141.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-16962 Filed 8-3-20; 8:45 am]

BILLING CODE 3510-07-P